ENVIRONMENTAL PROTECTION AGENCY

40 CFR Part 300

[FRL-6898-2]

National Oil and Hazardous Substances Pollution Contingency Plan; National Priorities List

AGENCY: Environmental Protection Agency (EPA).

ACTION: Direct final deletion of the Superfund Site from the National Priorities List (NPL).

SUMMARY: EPA Region 5 announces the deletion of the Ilada Energy Company Site (Site) from the National Priorities List (NPL) and requests public comment on this action. The NPL constitutes appendix B of 40 CFR part 300 which is the National Oil and Hazardous Substance Pollution Continency Plan (NCP), which EPA promulgated pursuant to section 105 of the Comprehensive Environmental Response, Compensation and Liability Act of 1980, as amended, (CERCLA). EPA and the Illinois Environmental Protection Agency (IEPA) have determined that the Site poses no significant threat to public health or the environment and, therefore, further remedial measures pursuant to CERCLA are not appropriate.

DATES: This “direct final” action will be effective January 8, 2001, unless EPA receives dissenting comments by December 11, 2000. If written dissenting comments are received, EPA will publish a timely withdrawal of the rule in the Federal Register informing the public that the rule will not take effect.

ADDRESSES: Comments may be mailed to Jon Peterson, Remedial Project Manager, or Gladys Beard, Associate Remedial Project Manager, U.S. Environmental Protection Agency, Superfund Division, U.S. EPA, Region 5, 77 W. Jackson Blvd., (SR-6J), Chicago, IL 60604. Requests for comprehensive information on this Site is available through the public docket which is available for viewing at the Site Information Repositories at the following locations: U.S. EPA Region 5, Administrative Records, 77 W. Jackson Blvd., Chicago, IL 60604, Illinois Environmental Protection Agency, 1021 North Grand Avenue East, Springfield, Illinois 62794 and Cape Girardeau Public Library, 711 N. Clark, Cape Girardeau, MO 63701.

FOR FURTHER INFORMATION CONTACT: Jon Peterson at (312) 353-1264, email peterson.jon@epa.gov or Gladys Beard (SR-6J), U.S. Environmental Protection Agency, 77 W. Jackson, Chicago, II, (312) 886-7253, FAX (312) 886-4071, e-mail beard.gladys@epa.gov

SUPPLEMENTARY INFORMATION:

Table of Contents

I. Introduction

II. NPL Deletion Criteria

III. Deletion Procedures

IV. Basis of Intended Site Deletion

V. Action

I. Introduction

The Environmental Protection Agency (EPA) Region 5 announces the deletion of the Ilada Energy Company Site, East Girardeau, Illinois from the National Priorities List (NPL), appendix B of the National Oil and Hazardous Substances Pollution Contingency Plan (NCP), 40 CFR part 300. EPA identifies sites that appear to present a significant risk to public health, welfare, or the environment and maintains the NPL as the list of these sites. EPA and the State of Illinois have determined that the remedial action for the Site has been successfully executed. EPA will accept comments on this action for thirty days after publication of this action in the Federal Register.

Section II of this notice explains the criteria for deleting sites from the NPL. Section III discusses the procedures that EPA is using for this action. Section IV discusses the history of the Ilada Energy Company Site and explains how the Site meets the deletion criteria. Section V states EPA's action to delete the Site from the NPL unless dissenting comments are received during the comment period.

II. NPL Deletion Criteria

Section 300.425(e) of the NCP provides that Sites may be deleted from, or recategorized on the NPL where no further response is appropriate. In making a determination to delete a Site from the NPL, EPA shall consider, in consultation with the state, whether any of the following criteria has been met:

(i) Responsible parties or other persons have implemented all appropriate response actions required;

(ii) All appropriate Fund-financed response under CERCLA has been implemented, and no further response action by responsible parties is appropriate; or

(iii) The remedial investigation has shown that the release poses no significant threat to public health or the environment and, therefore, taking of remedial measures is not appropriate.

Even if the Site is deleted from the NPL, where hazardous substances, pollutants, or contaminants remain at the Site above levels that allow for unlimited use and unrestricted exposure, EPA's policy is that a subsequent review of the Site will be conducted at least every five years after the initiation of the remedial action at the Site to ensure that the Site remains protective of public health and the environment. In the case of this Site, EPA will conduct a Five-Year Review in the year of 2005. As explained below, the Site meets the NCP's deletion criteria (i) listed above. If new information becomes available which indicates a need for further action, EPA may initiate remedial actions. Whenever there is a significant release from a site deleted from the NPL, the site shall be restored to the NPL without the application of the Hazard Ranking System (HRS).

III. Deletion Procedures

The following procedures were used for the intended deletion of the Site:

(1) All appropriate responses under CERCLA have been implemented and no further action by EPA is appropriate; (2) The State has concurred with the proposed deletion decision; (3) A notice has been published in the local newspaper and has been distributed to appropriate federal, state, and local officials and other interested parties announcing the commencement of a 30-day dissenting public comment period on EPA's Direct Final Action to Delete; and, (4) All relevant documents have been made available for public review in the local Site information repositories. EPA is requesting only dissenting comments on the Direct Final Action to Delete.

For deletion of the Site, EPA's Regional Office will accept and evaluate public comments on EPA's Final Notice before making a final decision to delete. If necessary, the Agency will prepare a Responsiveness Summary, responding to each significant comment submitted during the public comment period. Deletion of the Site from the NPL does not itself create, alter, or revoke any individual's rights or obligations. The NPL is designed primarily for informational purposes and to assist Agency management. As mentioned in section II of this document, § 300.425(e)(3) of the NCP states that the deletion of a Site from the NPL does not preclude eligibility for future response actions.

IV. Basis for Intended Site Deletion

The following site summary provides the Agency's rationale for the proposal to delete this Site from the NPL.

Site Background and History

The Ilada Energy Company site (the “Site”) encompasses approximately 17 acres in southern Illinois, south of the town of East Cape Girardeau in the northwest quadrant of Section 32, Township 14 South, Range 3 West. The surrounding area is utilized primarily for agricultural purposes. Farmland borders the Site to the northeast, but the remainder is owned by the US Forest Service and used for silviculture. The area is relatively flat with a ground surface elevation of approximately 330 feet above mean sea level. The Site is located within the 100-year floodplain of the Mississippi River on the “dry” side of the 20-foot high flood control levee which is located immediately to the south of the Site. A 200-foot wide slough was formed along the south toe of the levee as a result of borrowing material for its construction. This area is swampy during the wet season (approximately Fall through Spring) supporting riparian vegetation consisting of cattails and other aquatic plants. The quarter-mile wide strip between the river and the slough comprises wooded areas, dense brush and ground vegetation, and patches of overgrown, idle cropland.

The main portion of the Site is surrounded by a locked chain-link fence to restrict access. Prior to the removal action, there were seven structures and twenty-two bulk oil tank and numerous underground pipelines. All were removed from the Site along with the tank contents and the grossly contaminated, on Site soil. The Site is overgrown yearly with native grasses and weeds.

The Site originally consisted of a tank farm built for the U. S. Department of War (DOW) in 1942. The location was selected to take advantage of access provided by the Mississippi River. The facility was operated by Allied Oil Terminal Company as a bulk fuel oil storage/transfer terminal until the early or mid-1950's. Transfer piping ran across the levee towards the river.

After Allied Terminal ceased using the facility in the mid-1950's, the Site sat idle until purchased by the Kara Oil Company in 1979. In 1982, it was assigned to Larry Wilson of the Ilada Energy Company (Ilada).

From 1981 to 1983, Ilada operated the tank farm as a waste oil reclamation facility. Additional tanks and structures were added to the facility in that time period.

Several inspections of the then operating facility were conducted by the Illinois EPA and the USEPA in 1982 and 1983. These inspections revealed that Ilada was improperly storing, handling, mixing, and disposing waste oils contaminated with PCBs. Ilada and the USEPA entered into a consent decree in January 18, 1983. This decree ordered Ilada to remove PCB-contaminated materials and cease handling hazardous materials and waste. Among other actions, the order required the removal of PCB-contaminated materials in accordance with Toxic Substance Control Act (TSCA). It also required Ilada to close all activities relating to the receipt, transportation, storage, handling, use and disposal of PCBs, chemicals, and other wastes. Later in 1983, the boiler was removed by Ilada as well as some pumps and related equipment from the pump house, and office and laboratory equipment were removed from the Office Building. In 1986, the Illinois EPA installed six groundwater monitoring wells on the Site. The Site was subsequently proposed for inclusion on the National Priorities List (NPL) pursuant to section 105 of CERCLA on June 24, 1988. The listing of the Site on the NPL was finalized on October 4, 1989. Site visits in 1989 indicated spillage and leakage of oils on the ground near several tanks and tank valves. Ilada failed to remove any of the PCB waste. After Ilada's failure to perform the required actions, a Unilateral Order was issued.

In 1989, a Unilateral Administrative Order was issued pursuant to section 106 of CERCLA to remove PCB materials from the Site. As a result of the section 106 Order, four of the companies included as PRPs formed the Ilada Energy Company—East Cape Girardeau Group. These companies included Shell Oil Company, Metal Container Corporation, Granite City Steel Division of National Steel, and Emerson Electric Company. The group was then ordered to initiate a Remedial Investigation (RI) to determine the source, nature and extent of the contamination at the Site following the removal action.

The RI was finalized and approved by Illinois EPA in April of 1999. The Human Health Baseline Risk Assessment (HHRA) and Ecological Risk Assessment (ERA) were finalized and approved by Illinois EPA in July of 1999.

All structures used by Ilada Energy, including foundations, tanks, above ground and buried pipelines (including those south of the levee), debris, and grossly contaminated soils were removed as part of the August 7, 1992, removal action. The only remnants of the tank farm are the repaired seven-foot high perimeter fence, roads, subdued remnants of the six berms around the tank areas, and the former site production water well. Nearly all of the brush and trees were removed during the removal action. Weeds and brush have re-established a vegetative cover since completion of site activities.

With the exception of a localized pool of subsurface aviation gasoline, no continuing source of constituents associated with site operations remains on the Site. The lateral extent of this pool has been fully delineated and is confined to an area of about 50 by 75 feet. This pool was observed in one monitoring well, D12. Subsurface investigation in the area of D12 revealed that the pool is discontinuous and is not present as a contiguous pool of mobile liquid floating on the groundwater. All other materials and potential sources, including grossly contaminated surficial soils, were removed during the removal action.

The 1999 RI report yielded information regarding the nature and extent of the contamination remaining at the Site including the following:

• The site surface and subsurface soils contain generally low levels of Volatile Organic Compounds (VOC's) and Semi-Volatile Organic Compounds (SVOC'S).

• A localized subsurface pocket of light non-aqueous phase liquid (LNAPL) composed of aviation gasoline remains from the site's original use as a fuel storage depot approximately 40 years ago. The lateral extent of this pocket measures approximately 50 by 75 feet, and it is entirely contained on the Site.

• The adjacent properties to the south, east, west, and north are unavailable for future development because they were acquired in 1997 as part of a federal flood control program.

The removal action conducted between 1989 and 1991 substantially mitigated the human health and environmental threats posed by this site. This action resulted in the removal from the Site of all tanks and their contents, piping, structures, and grossly contaminated soils. A total of 442,162 gallons of oil and sludge were sent offsite to be burned as waste fuel in cement kilns; 142,700 gallons of PCB contaminated oil and sludge were incinerated at a permitted off-site facility; 865,700 gallons of contaminated water were treated and discharged to the river after testing showed that it met Clean Water Act standards; 1055 cubic yards of soil and miscellaneous debris were disposed offsite as special waste; 637 cubic yards were disposed offsite as demolition debris; fifty cubic yards of PCB-contaminated soil were landfilled at a permitted offsite facility; and 1264 tons of steel were recycled. All wastes were removed from the Site and treated or disposed elsewhere.

During the RI, an analysis was conducted to estimate the health and environmental problems that could result from the residual soil and groundwater constituents at the Ilada Energy Site after the completion of the removal action at the Site.

The Proposed Plan for the Ilada Energy Superfund Site was released for public comment in July 1999. The Proposed Plan identified the “No Further Action” alternative as the preferred and only alternative for the Site. Illinois EPA reviewed all written and verbal comments submitted during the public comment period. None were received. It was determined that no significant changes to the remedy, as originally identified in the Proposed Plan, were necessary or appropriate.

A no further remedial action Record of Decision (ROD) was sign on September 27, 1999. It has been determined that no further remedial action is necessary for the purpose of mitigating environmental or human health threats at this Site. The selected remedy is protective of human health and the environment, attains Federal and State requirements that are applicable or relevant and appropriate for this remedial action, and is cost-effective.

This remedy requires the maintenance of institutional controls. The institutional controls that consist of the following:

• Prohibiting the installation of groundwater wells for the purpose of producing potable water, and;

• Prohibiting the use, improvement or maintenance of any type of Site property for residential purposes.

V. Action

The remedy selected for this Site has been implemented in accordance with the Record of Decision. The remedy along with the previous removal actions have resulted in the significant reduction of the long-term potential for release of contaminants, therefore, threats to human health and the environment have been minimized. EPA and the State of Illinois find that the response actions implemented provide adequate protection of human health the environment.

The Illinois EPA concurs with the EPA that the criteria for deletion of the Site have been met. Therefore, EPA is deleting the Site from the NPL.

This action will be effective January 8, 2001. However, if EPA receives dissenting comments by December 11, 2000, EPA will publish a document that withdraws this action.

List of Subjects in 40 CFR Part 300

Environmental protection, Air pollution control, Chemicals, Hazardous substances, Hazardous waste, Intergovernmental relations, Penalties, Reporting and recordkeeping requirements, Superfund, Water pollution control, Water supply.

Dated: October 27, 2000.
Gary Gulezian,
Acting Regional Administrator, Region 5.

Part 300, title 40 of Chapter I of the Code of Federal Regulations is amended as follows:

PART 300—[AMENDED]

1. The authority citation for part 300 continues to read as follows:

Authority: 33 U.S.C. 1321 (c)(2); 42 U.S.C. 9601-9657; E.O. 12777, 56 FR 54757, 3 CFR, 1991 Comp.; p.351; E.O. 12580, 52 FR 2923, 3 CFR, 1987 Comp.; p.193.

Appendix B—[Amended]

2. Table 1 of appendix B to part 300 is amended by removing the Site for “Ilada Energy Co., East Cape Girardeau, IL”.

[FR Doc. 00-28514 Filed 11-8-00; 8:45 am]

BILLING CODE 6560-50-P